DEPARTMENT OF THE TREASURY

Submission for OMB Review; Comment Request

May 3, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 8, 2006 to be assured of consideration.

Financial Management Service

OMB Number: 1510-0008.

Type of Review: Extension.

Title: Pools and Associations—Annual Letter.

Description: Information collected determines acceptable percent for each pool and association Treasury Certified companies are given credit for a Treasury Schedule F for authorized ceded reinsurance in arriving at each insurance company's underwriting limit.

Respondents: Business or other for-profit.

Estimated Total Burden Hours: 126 hours.

OMB Number: 1510-0013.

Type of Review: Extension.

Title: State where Licensed for Surety.

Description: Information collected from insurance companies provides Federal bond approving officers with a listing of states, by company in which they are licensed to write Federal bonds. This information appears in Treasury's Circular 570.

Respondents: Business or other for-profit.

Estimated Total Burden Hours: 254 hours.

Clearance Officer: Jiovannah Diggs, (202) 874-7662, Financial Management Service, Room 144, 3700 East West Highway, Hyattsville, MD 20782.

OMB Reviewer: Alexander T. Hunt, (202) 395-7316, Office of Management and Budget, Room 10235, New Executive Office Building, Washington, DC 20503.

Michael A. Robinson,
Treasury PRA Clearance Officer.

[FR Doc. E6-7029 Filed 5-8-06; 8:45 am]

BILLING CODE 4810-35-P